DEPARTMENT OF THE INTERIOR

National Park Service

[NPS-WASO-NAGPRA-11225; 2200-1100-665]

Notice of Intent To Repatriate Cultural Items: Stanford University Archaeology Center, Stanford, CA

AGENCY: National Park Service, Interior.

ACTION: Notice.

SUMMARY: The Stanford University Archaeology Center, in consultation with the appropriate Indian tribes, has determined that the cultural items meet the definition of sacred object and repatriation to the Indian tribes stated below may occur if no additional claimants come forward. Representatives of any Indian tribe that believes itself to be culturally affiliated with the cultural items may contact the Stanford University Archaeology Center.

DATES: Representatives of any Indian tribe that believes it has a cultural affiliation with the cultural items should contact the Stanford University Archaeology Center at the address below by October 31, 2012.

ADDRESSES: Laura Jones, Director, Heritage Services and University Archaeologist, Archaeology Center, 488 Escondido Mall, Stanford, CA 94305, telephone (650) 723-9664.

SUPPLEMENTARY INFORMATION: Notice is here given in accordance with the Native American Graves Protection and Repatriation Act (NAGPRA), 25 U.S.C. 3005, of the intent to repatriate cultural items in the possession of the Stanford University Archaeology Center that meet the definition of sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Remains

Sometime prior to 1905, 44 cultural items were removed from an unknown location in Tulare County, CA. Stanford University's cofounder, Mrs. Jane Stanford, donated the cultural items to the Stanford Museum before her death in 1905. The sacred objects are 44 stone objects. Representatives from the Santa Rosa Indian Community of the Santa Rosa Rancheria, California, identified the 44 stone objects as sacred objects during a consultation visit to Stanford University in August 2011.

The Santa Rosa Indian Community of the Santa Rosa Rancheria, California, has provided additional information regarding these cultural items to establish cultural affiliation to the Yokut tribes. Based on the site location and in accordance with the information received in the consultation process, the sacred objects are culturally affiliated with the Yokut communities represented by the present-day tribes of the Picayune Rancheria of Chukchansi Indians of California; Santa Rosa Indian Community of the Santa Rosa Rancheria, California; Table Mountain Rancheria of California; and the Tule River Indian Tribe of the Tule River Reservation, California.

Determinations Made by the Stanford University Archaeology Center

Officials of the Stanford University Archaeology Center have determined that:

• Pursuant to 25 U.S.C. 3001(3) (C), the 44 cultural items described above are specific ceremonial objects needed by traditional Native American Religious leaders for the practice of traditional Native American religions by their present-day adherents.

• Pursuant to 25 U.S.C. 3001(2), there is a relationship of shared group identity that can be reasonably traced between the Native American human remains and the Picayune Rancheria of Chukchansi Indians of California; Santa Rosa Indian Community of the Santa Rosa Rancheria, California; Table Mountain Rancheria of California; and the Tule River Indian Tribe of the Tule River Reservation, California.

Additional Requestors and Disposition

Representatives of any Indian tribe that believes itself to be culturally affiliated with the sacred objects should contact Laura Jones, Director, Heritage Services and University Archaeologist, Archaeology Center, 488 Escondido Mall, Stanford, CA 94305, telephone (650) 723-9664 before October 31, 2012. Repatriation of the sacred objects to the Picayune Rancheria of Chukchansi Indians of California; Santa Rosa Indian Community of the Santa Rosa Rancheria, California; Table Mountain Rancheria of California; and the Tule River Indian Tribe of the Tule River Reservation, California, may proceed after that date if no additional claimants come forward.

The Stanford University Archaeology Center is responsible for notifying the Picayune Rancheria of Chukchansi Indians of California; Santa Rosa Indian Community of the Santa Rosa Rancheria, California; Table Mountain Rancheria of California; and the Tule River Indian Tribe of the Tule River Reservation, California, that this notice has been published.

Dated: September 5, 2012.
Sherry Hutt,
Manager, National NAGPRA Program.

[FR Doc. 2012-24090 Filed 9-28-12; 8:45 am]

BILLING CODE 4312-50-P